DEPARTMENT OF DEFENSE

Department of the Navy

Notice of Intent To Grant Partially Exclusive Patent License; Soil Information Systems, Inc.

AGENCY: Department of the Navy, DoD.

ACTION: Notice.

SUMMARY: The Department of the Navy herby gives notice of its intent to grant to Soil Information Systems, Inc., a revocable, nonassignable, partially exclusive license in the United States to practice the Government-Owned invention(s) described in U.S. Patent Number 5,316,950 entitled “Method for quantitative calibration of in situ optical chemical measurements in soils using soil class and characteristics”, issue date May 31, 1994.

DATES: Anyone wishing to object to the grant of this license must file written objections along with supporting evidence, if any, not later than January 30, 2008.

ADDRESSES: Written objections are to be filed with the Office of Research and Technology Applications, Space and Naval Warfare Systems Center, Code 73120, 53560 Hull St., San Diego, CA 92152-5048.

FOR FURTHER INFORMATION CONTACT: Stephen H. Lieberman, Ph.D., Head, Office of Research and Technology Applications, Space and Naval Warfare Systems Center, Code 73120, 53560 Hull St., San Diego, CA 92152-5048, telephone 619-553-2778, E-Mail: stephen.lieberman@navy.mil.

(Authority: 35 U.S.C. 207, 37 CFR Part 404)

Dated: January 9, 2008.
T.M. Cruz,
Lieutenant, Office of the Judge Advocate General, U.S. Navy, Federal Register Liaison Officer.

[FR Doc. E8-517 Filed 1-14-08; 8:45 am]

BILLING CODE 3810-FF-P